DEPARTMENT OF HOMELAND SECURITY

Coast Guard

33 CFR Part 165

[Docket Number USCG-2017-0149]

RIN 1625-AA00

Safety Zones; Annual Fireworks Displays Within the Sector Columbia River Captain of the Port Zone

AGENCY: Coast Guard, DHS.

ACTION: Notice of proposed rulemaking.

SUMMARY: The Coast Guard proposes to establish five new fireworks display safety zones at various locations in the Sector Columbia River Captain of the Port zone. In addition to adding new fireworks display safety zones, this proposed rulemaking would consolidate existing safety zones into one regulation and eliminate one safety zone listed in two regulations. We invite your comments on this proposed rulemaking.

DATES: Comments and related material must be received by the Coast Guard on or before May 8, 2017.

ADDRESSES: You may submit comments identified by docket number USCG-2017-0149 using the Federal eRulemaking Portal at http://www.regulations.gov. See the “Public Participation and Request for Comments” portion of the SUPPLEMENTARY INFORMATION section for further instructions on submitting comments.

FOR FURTHER INFORMATION CONTACT: If you have questions on this rule, call or email LCDR Laura Springer, Waterways Management Division, Marine Safety Unit Portland, Coast Guard; telephone 503-240-9319, email msupdxwwm@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

Our regulation for safety zones for fireworks displays in the Sector Columbia River Captain of the Port Zone, 33 CFR 165.1315, was last revised (80 FR 29949, May 26, 2015) in 2015. After receiving five new marine event permit applications for fireworks displays for the 2017 season, we determined that they should be added to existing safety zones in § 165.1315, where reoccurring fireworks displays are listed in a table format.

The proposed safety zones are being implemented to help ensure the safe navigation of maritime traffic in the Sector Columbia River Area of Responsibility during fireworks displays. Fireworks displays create hazardous conditions for the maritime public because of the large number of vessels near the displays, as well as the noise, falling debris, and explosions that occur during the event. Because firework discharge sites pose a potential hazard to the maritime public, these safety zones are necessary in order to restrict vessel movement and reduce vessel congregation in the proximity of the firework discharge sites.

III. Discussion of Proposed Rule

The Coast Guard proposes to add five new fireworks display safety zones to revise 33 CFR 165.1315 to include the locations listed in the table below. The added safety zones would cover all waters of the Oregon coast, Tillamook Bay, the Columbia River and its tributaries, and the Clatskanie River, within a 450 yard radius of the launch site at the approximate locations listed in the following table:

Bandon 4th of July | Bandon, OR | One day in July | 43°07′29″ N | 124°25′05″ W.
Garibaldi Days Fireworks | Garibaldi, OR | One day in July | 45°33′13″ N | 123°54′56″ W.
Bald Eagle Days | Cathlamet, WA | One day in July | 46°12′14″ N | 123°23′17″ W.
Veterans Day Celebration | The Dalles, OR | One day in November | 45°36′18″ N | 121°10′34″ W.
Clatskanie Heritage Days Fireworks | Clatskanie, OR | One Day in July | 46°6′17″ N | 123°12′02″ W.

Additionally, the Coast Guard proposes to consolidate two fireworks display safety zones into the table in 33 CFR 165.1315. The Fort Vancouver fireworks safety zone, 33 CFR 165.1314, and Astoria Regatta fireworks safety zone, 33 CFR 165.1316, would be incorporated into the table and removed as separate regulations. Currently, the Astoria Regatta fireworks safety zone is listed both in 33 CFR 165.1316 and 33 CFR 165.1315. The table in 33 CFR 165.1315 has also been reordered chronologically. These actions will eliminate any confusion caused by the current configuration.

IV. Regulatory Analyses

We developed this proposed rule after considering numerous statutes and Executive orders related to rulemaking. Below we summarize our analyses based on a number of these statutes and Executive Orders and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This NPRM has not been designated a “significant regulatory action,” under Executive Order 12866. Accordingly, the NPRM has not been reviewed by the Office of Management and Budget.

This regulatory action determination is based on the size, location, duration, and time-of-day of the safety zones. Vessel traffic would be able to safely transit around these safety zones which would impact small designated areas of the Oregon coast, Tillamook Bay, the Columbia River and its tributaries, and the Clatskanie River for less than 1 hour during the evening when commercial vessel traffic is normally low. Moreover, the Coast Guard would issue a Broadcast Notice to Mariners via VHF-FM marine channel 16 about the zone, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian Tribes, on the relationship between the Federal Government and Indian Tribes, or on the distribution of power and responsibilities between the Federal Government and Indian Tribes. If you believe this proposed rule has implications for federalism or Indian Tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This proposed rule involves safety zones that are approximately 1 hour in duration and would prohibit entry within 450 yards of the launch sites. Normally such actions are categorically excluded from further review under paragraph 34(g) of Figure 2-1 of Commandant Instruction M16475.lD. A preliminary environmental analysis checklist and Categorical Exclusion Determination are available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that Web site's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

§ 165.1314 [Removed].

2. Remove §§ 165.1314.

3. Revise § 165.1315 to read as follows:

§ 165.1315 Safety Zone; Annual Fireworks Displays within the Sector Columbia River Captain of the Port Zone.

(a) Safety zones. The following areas are designated safety zones: Waters of the Columbia River and its tributaries, waters of the Siuslaw River, Yaquina River, Umpqua River, Clatskanie River, Tillamook Bay and waters of the Washington and Oregon Coasts, within a 450 yard radius of the launch site at the approximate locations listed in the following table:

Event name (typically) | Event location | Date of event | Latitude | Longitude
Cinco de Mayo Fireworks | Portland, OR | One day in May | 45°30′58″ N | 122°40′12″ W.
Portland Rose Festival Fireworks | Portland, OR | One day in May or June | 45°30′58″ N | 122°40′12″ W.
Newport High School Graduation Fireworks | Newport, OR | One day in June | 44°36′48″ N | 124°04′10″ W.
Tri-City Chamber of Commerce Fireworks/River of Fire Festival | Kennewick, WA | One day in July | 46°13′37″ N | 119°08′47″ W.
Astoria-Warrenton 4th of July Fireworks | Astoria, OR | One day in July | 46°11′34″ N | 123°49′28″ W.
Waterfront Blues Festival Fireworks | Portland, OR | One day in July | 45°30′42″ N | 122°40′14″ W.
Florence Independence Day Celebration | Florence, OR | One day in July | 43°58′09″ N | 124°05′50″ W.
Oaks Park Association 4th of July | Portland, OR | One day in July | 45°28′22″ N | 122°39′59″ W.
City of Rainier/Rainier Days | Rainier, OR | One day in July | 46°05′46″ N | 122°56′18″ W.
Ilwaco July 4th Committee Fireworks/Independence Day at the Port | Ilwaco, OR | One day in July | 46°18′17″ N | 124°02′00″ W.
Celebrate Milwaukie | Milwaukie, OR | One day in July | 45°26′33 N | 122°38′44″ W.
Splash Aberdeen Waterfront Festival | Aberdeen, WA | One day in July | 46°58′40″ N | 123°47′45″ W.
City of Coos Bay July 4th Celebration/Fireworks Over the Bay | Coos Bay, OR | One day in July | 43°22′06″ N | 124°12′24″ W.
Arlington 4th of July | Arlington, OR | One day in July | 45°43′23″ N | 120°12′11 W.
East County 4th of July Fireworks | Gresham, OR | One day in July | 45°33′32″ N | 122°27′10″ W.
Port of Cascade Locks 4th of July Fireworks | Cascade Locks, OR | One day in July | 45°40′15″ N | 121°53′43″ W.
Clatskanie Heritage Days Fireworks | Clatskanie, OR | One Day in July | 46°6′17″ N | 123°12′02″ W.
Washougal 4th of July | Washougal, WA | One day in July | 45°34′32″ N | 122°22′53″ W.
City of St. Helens 4th of July Fireworks | St. Helens, OR | One day in July | 45°51′54″ N | 122°47′26″ W.
Waverly Country Club 4th of July Fireworks | Milwaukie, OR | One day in July | 45°27′03″ N | 122°39′18″ W.
Hood River 4th of July | Hood River, OR | One day in July | 45°42′58″ N | 121°30′32″ W.
Rufus 4th of July Fireworks | Rufus, OR | One day in July | 45°41′39″ N | 120°45′16″ W.
Winchester Bay 4th of July Fireworks | Winchester Bay, OR | One day in July | 43°40′56″ N | 124°11′13″ W.
Brookings, OR July 4th Fireworks | Brookings, OR | One day in July | 42°02′39″ N | 124°16′14″ W.
Maritime Heritage Festival | St. Helens, OR | One day in July | 45°51′54″ N | 122°47′26″ W.
Lynch Picnic | West Linn, OR | One day in July | 45°23′37″ N | 122°37′52″ W.
Yachats 4th of July | Yachats, OR | One day in July | 44°18′38″ N | 124°06′27″ W.
Lincoln City 4th of July | Lincoln City, OR | One day in July | 44°55′28″ N | 124°01′31″ W.
July 4th Party at the Port of Gold Beach | Gold Beach, OR | One day in July | 42°25′30″ N | 124°25′03″ W.
Gardiner 4th of July | Gardiner, OR | One day in July | 43°43′55″ N | 124°06′48″ W.
Huntington 4th of July | Huntington, OR | One day in July | 44°18′02″ N | 117°13′33″ W.
Toledo Summer Festival | Toledo, OR | One day in July | 44°37′08″ N | 123°56′24″ W.
Port Orford 4th of July | Port Orford, OR | One day in July | 42°44′31″ N | 124°29′30″ W.
The Dalles Area Fourth of July | The Dalles, OR | One day in July | 45°36′18″ N | 121°10′23″ W.
Roseburg Hometown 4th of July | Roseburg, OR | One day in July | 43°12′58″ N | 123°22′10″ W.
Newport 4th of July | Newport, OR | One day in July | 44°37′40″ N | 124°02′45″ W.
Cedco Inc./The Mill Casino Independence Day | North Bend, OR | One day in July | 43°23′42″ N | 124°12′55″ W.
Waldport 4th of July | Waldport, OR | One day in July | 44°25′31″ N | 124°04′44″ W.
Westport 4th of July | Westport, WA | One day in July | 46°54′17″ N | 124°05′59″ W.
The 4th of July at Pekin Ferry | Ridgefield, WA | One day in July | 45°52′07″ N | 122°43′53″ W.
Bandon 4th of July | Bandon, OR | One day in July | 43°07′29″ N | 124°25′05″ W.
Garibaldi Days Fireworks | Garibaldi, OR | One day in July | 45°33′13″ N | 123°54′56″ W.
Bald Eagle Days | Cathlamet, WA | One day in July | 46°12′14″ N | 123°23′17″ W.
Independence Day at the Fort Vancouver | Vancouver, WA | One Day in July | 45°36′57″ N | 122°40′09″ W.
Oregon Symphony Concert Fireworks | Portland, OR | One day in August or September | 45°30′42″ N | 122°40′14″ W.
Astoria Regatta | Astoria, OR | One day in August | 46°11′34″ N | 123°49′28″ W.
First Friday Milwaukie | Milwaukie, OR | One day in September | 45°26′33″ N | 122°38′44″ W.
Leukemia and Lymphoma Light the Night Fireworks | Portland, OR | One day in October | 45°31′14″ N | 122°40′06″ W.
Willamette Falls Heritage Festival | Oregon City, OR | One day in October | 45°21′44″ N | 122°36′21″ W.
Veterans Day Celebration | The Dalles, OR | One day in November | 45°36′18″ N | 121°10′34″ W.

(b) Special requirements. Fireworks barges or launch sites on land used in locations stated in this section must display a sign. The sign will be affixed to the port and starboard side of the barge or mounted on a post 3 feet above ground level when on land and in close proximity to the shoreline facing the water labeled “FIREWORKS—DANGER—STAY AWAY.” This will provide on-scene notice that the safety zone is, or will, be enforced on that day. This notice will consist of a diamond shaped sign, 4-foot by 4-foot, with a 3-inch orange retro-reflective border. The word “DANGER” will be 10-inch black block letters centered on the sign with the words “FIREWORKS” and “STAY AWAY” in 6-inch black block letters placed above and below the word “DANGER” respectively on a white background. An on-scene patrol vessel may enforce these safety zones at least 1 hour prior to the start and 1 hour after the conclusion of the fireworks display.

(c) Notice of enforcement. These safety zones will be activated and thus subject to enforcement, under the following conditions: The Coast Guard must receive an Application for Marine Event for each fireworks display; and, the Captain of the Port will cause notice of the enforcement of these safety zones to be made by all appropriate means to provide notice to the affected segments of the public as practicable, in accordance with 33 CFR 165.7(a). The Captain of the Port will issue a Local Notice to Mariners notifying the public of activation and suspension of enforcement of these safety zones. Additionally, an on-scene Patrol Commander may be appointed to enforce the safety zones by limiting the transit of non-participating vessels in the designated areas described above.

(d) Enforcement periods. This section will be enforced at least 1 hour before and 1 hour after the duration of the event each day a barge or launch site with a “FIREWORKS—DANGER—STAY AWAY” sign is located within any of the safety zones identified in paragraph (a) of this section and meets the criteria established in paragraphs (b) and (c) of this section.

(e) Regulations. In accordance with the general regulations in 33 CFR part 165, subpart C, no person may enter or remain in the safety zone created in this section or bring, cause to be brought, or allow to remain in the safety zone created in this section any vehicle, vessel, or object unless authorized by the Captain of the Port or his designated representative. The Captain of the Port may be assisted by other Federal, State, or local agencies with the enforcement of the safety zone.

(f) Authorization. All vessel operators who desire to enter the safety zone must obtain permission from the Captain of the Port or Designated Representative by contacting either the on-scene patrol craft on VHF Ch 13 or Ch 16 or the Coast Guard Sector Columbia River Command Center via telephone at (503) 861-6211.

§ 165.1316 [Removed].

4. Remove § 165.1316.

Dated: April 3, 2017.
D.F. Berliner,
Captain, U.S. Coast Guard, Acting Captain of the Port, Sector Columbia River.

[FR Doc. 2017-06942 Filed 4-6-17; 8:45 am]

BILLING CODE 9110-04-P